Title 3—

The President

Executive Order 13883 of August 1, 2019

Administration of Proliferation Sanctions and Amendment of Executive Order 12851

By the authority vested in me as President by the Constitution and the laws of the United States of America, including the International Emergency Economic Powers Act (50 U.S.C. 1701 et seq.) (IEEPA), the National Emergencies Act (50 U.S.C. 1601 et seq.) (NEA), sections 305-308 of the Chemical and Biological Weapons Control and Warfare Elimination Act of 1991 (CBW Act), Public Law 102-182 (50 U.S.C. App. 2410c; 22 U.S.C. 2798, 5604-5606), and section 301 of title 3, United States Code,

I, DONALD J. TRUMP, President of the United States of America, in order to take additional steps with respect to the national emergency described and declared in Executive Order 12938 of November 14, 1994, as amended by and relied on for additional steps in subsequent Executive Orders, hereby order:

Section 1. (a) When the President, or the Secretary of State pursuant to authority delegated by the President and in accordance with the terms of such delegation, pursuant to section 307(b)(1) of the CBW Act, selects for imposition on a country one or more of the sanctions set forth below and in section 307(b)(2) of that Act, the Secretary of the Treasury, in consultation with the Secretary of State, shall take the following actions, when necessary, to implement such sanctions:

(i) oppose, in accordance with section 701 of the International Financial Institutions Act (22 U.S.C. 262d), the extension of any loan or financial or technical assistance to that country by international financial institutions; and

(ii) prohibit any United States bank from making any loan or providing any credit to the government of that country, except for loans or credits for the purpose of purchasing food or other agricultural commodities or products.

(b) The prohibition in subsection (a)(ii) of this section applies except to the extent provided by statutes, or in regulations, orders, directives, or licenses that may be issued pursuant to this order, and notwithstanding any contract entered into or any license or permit granted prior to the date of this order.

Sec. 2. (a) Any transaction that evades or avoids, has the purpose of evading or avoiding, causes a violation of, or attempts to violate the prohibition set forth in section 1(a)(ii) of this order is prohibited.

(b) Any conspiracy formed to violate the prohibition set forth in section 1(a)(ii) of this order is prohibited.

Sec. 3. Subsection (b) of section 1 of Executive Order 12851 of June 11, 1993 (Administration of Proliferation Sanctions, Middle East Arms Control, and Related Congressional Reporting Responsibilities), is amended by adding the following new paragraph 4 after paragraph 3:

“(4) The authorities and duties vested in me to oppose certain multilateral development bank assistance and to prohibit certain bank loans as provided in section 307(b)(2)(A)-(B), pursuant to a determination made by the Secretary of State under section 307(b)(1), are delegated to the Secretary of the Treasury.”

Sec. 4. For the purposes of this order:

(a) the term “entity” means a partnership, association, trust, joint venture, corporation, group, subgroup, or other organization;

(b) the term “government” means a government, any political subdivision, agency, or instrumentality thereof, and any person owned or controlled by, or acting for or on behalf of, that government; and

(c) the term “United States bank” means any entity organized under the laws of the United States or any jurisdiction within the United States (including its foreign branches), or any entity in the United States, that is engaged in the business of accepting deposits, making, granting, transferring, holding, or brokering loans or credits, or purchasing or selling foreign exchange, securities, commodity futures, or options, or procuring purchasers and sellers thereof, as principal or agent.

Sec. 5. The Secretary of the Treasury, in consultation with the Secretary of State, is hereby authorized to take such actions, including promulgating rules and regulations, and to employ all powers granted to the President by IEEPA and the CBW Act as may be necessary to implement this order. The Secretary of the Treasury may, consistent with applicable law, redelegate any of these functions within the Department of the Treasury. All agencies of the United States Government shall take all appropriate measures within their authority to carry out the provisions of this order.

Sec. 6. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

August 1, 2019.

[FR Doc. 2019-16879

Filed 8-2-19; 11:15 am]

Billing code 3295-F9-P